DEPARTMENT OF DEFENSE

Department of the Army, Corps of Engineers

33 CFR Part 334

Disestablishment of Restricted Area, Rhode Island Sound, Atlantic Ocean, Approximately 4 Nautical Miles Due South of Lands End in Newport, RI

AGENCY: U.S. Army Corps of Engineers, DoD.

ACTION: Final rule.

SUMMARY: The U.S. Navy (USN) requested that the U.S. Army Corps of Engineers (Corps) disestablish the restricted area (RA) located 4 nautical miles due south of Lands End in Newport, Rhode Island. The RA was established on August 31, 1987. The purpose of the RA was to establish a practice minefield for conducting mine detection and mine sweeping exercises. Use of the RA by the USN has been discontinued. Given the inert practice materials that were used at the site, the USN has determined that disestablishment of the area will not pose any hazard or threat to public safety.

DATES: Effective date: August 20, 2012.

ADDRESSES: Headquarters, U.S. Army Corps of Engineers, Operations and Regulatory Community of Practice, 441 G Street NW., Washington, DC 20314-1000.

FOR FURTHER INFORMATION CONTACT: Mr. David Olson, Headquarters, Operations and Regulatory Community of Practice, Washington, DC at 202-761-4922 or by email at david.b.olson@usace.army.mil or Ms. Angela C. Repella, U.S. Army Corps of Engineers, New England District, Regulatory Branch, at 978-318-8639 or by email at Angela.C.Repella@usace.army.mil.

SUPPLEMENTARY INFORMATION: By letter received May 5, 2011, the commanding officer of Naval Station Newport, requested the removal of the restricted area located 4 nautical miles due south of Lands End in Newport, Rhode Island. The RA is no longer needed by the USN. In response to this request, and pursuant to its authorities in Section 7 of the Rivers and Harbors Act of 1917 (40 Stat 266; 33 U.S.C. 1) and Chapter XIX of the Army Appropriations Act of 1919 (40 Stat 892; 33 U.S.C. 3), the Corps is amending the regulations in 33 CFR Part 334 by disestablishing the RA.

The proposed rule was published in the April 4, 2012, edition of the Federal Register (77 FR 20330), with regulations.gov docket number COE-2012-0001. In April 2012, the Corps New England District issued a public notice soliciting comments on the proposal to all known interested parties. No comments were received in response to the proposed rule and the public notice.

Administrative Requirements

a. Review Under Executive Order 12866. This rule is issued with respect to a military function of the Department of Defense and the provisions of Executive Order 12866 do not apply.

b. Regulatory Flexibility Act, as Amended by the Small Business Regulatory Enforcement Fairness Act of 1996, 5 U.S.C. 601 et seq. This rule has been reviewed under the Regulatory Flexibility Act (Pub. L. 96-354), which requires the preparation of a regulatory flexibility analysis for any regulation that will have a significant economic impact on a substantial number of small entities (i.e., small businesses and small governments). The Corps determined that the disestablishment of the RA would not have a significant economic impact on small entities. For more detailed analysis of potential impacts of this rule, please see the regulatory analysis in the EA.

c. Review Under the National Environmental Policy Act. We have concluded that the disestablishment of the restricted area will not have a significant impact to the quality of the human environment and, therefore, preparation of an environmental impact statement is not required. An environmental assessment and Finding of No Significant Impact have been prepared and may be reviewed at the New England District Office. Please contact Ms. Angela C. Repella at the phone number specified above for further information.

d. Unfunded Mandates Reform Act. This rule does not impose an enforceable duty among the private sector and, therefore, is not a Federal private sector mandate and is not subject to the requirements of Section 202 or 205 of the Unfunded Mandates Reform Act (Pub. L. 104-4, 109 Stat. 48, 2 U.S.C. 1501 et seq.). We have also found, under Section 203 of the Act, that small governments will not be significantly or uniquely affected by this rule.

List of Subjects in 33 CFR Part 334

Danger zones, Navigation (water), Transportation, Waterways.

For the reasons stated in the preamble, the Corps is amending 33 CFR part 334 to read as follows:

PART 334—DANGER ZONE AND RESTRICTED AREA REGULATIONS

1. The authority citation for part 334 continues to read as follows:

Authority: 40 Stat. 266 (33 U.S.C. 1) and 40 Stat. 892 (33 U.S.C. 3).

§ 334.78 [Removed]

2. Remove § 334.78.

Dated: July 16, 2012.
Richard C. Lockwood,
Chief, Operations and Regulatory, Directorate of Civil Works.

[FR Doc. 2012-17779 Filed 7-19-12; 8:45 am]

BILLING CODE 3720-58-P